DEPARTMENT OF TRANSPORTATION

Federal Aviation Administration

Fourth Meeting—RTCA Special Committee 220/Automatic Flight Guidance and Control

AGENCY: Federal Aviation Administration (FAA), DOT.

ACTION: Notice of RTCA Special Committee 220/Automatic Flight Guidance and Control meeting.

SUMMARY: The FAA is issuing this notice to advise the public of a meeting of RTCA Special Committee 220/Automatic Flight Guidance and Control.

DATES: The meeting will be held October 14-16, 2009. October 14th from 9 a.m. to 5 p.m. and October 16th from 9 a.m. to 2 p.m.

ADDRESSES: The meeting will be held at Wichita Airport Hilton, 2098 Airport Road, Wichita, Kansas, 67209-1941 USA, Tel: 1-316-945-5272, Fax: 1-316-945-7620.

FOR FURTHER INFORMATION CONTACT: (1) RTCA Secretariat, 1828 L Street, NW., Suite 805, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 220/Automatic Flight Guidance and Control meeting. The agenda will include:

• Welcome/Agenda Overview.

• Review and approve previous plenary minutes.

• Report out from July PMC meeting—Sherif Ali.

• Report from WG1—MOPS: Status, schedule, issues—Review MS Project schedule.

• Report from WG2—Part 23 Installation Guidance: Status, schedule, issues—Review MS Project schedule.

• Report from WG3—Parts 27/29 Installation Guidance: Status, schedule, issues—Review MS Project schedule.

• Common issues discussion including breadth & level of participation, scope with respect to TORs.

• Breakout into individual WGs.

• Report out from each WG: Status, schedule, issues.

• Establish Dates, Location, Agenda for Next Meeting, Other Business.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 3, 2009.
Francisco Estrada C.,
RTCA Advisory Committee.

[FR Doc. E9-21853 Filed 9-9-09; 8:45 am]

BILLING CODE 4910-13-P